DEPARTMENT OF COMMERCE

National Oceanic and Atmospheric Administration

[RTID 0648-XE845]

Gulf Fishery Management Council; Public Meeting

AGENCY: National Marine Fisheries Service (NMFS), National Oceanic and Atmospheric Administration (NOAA), Commerce.

ACTION: Notice of a public meeting.

SUMMARY: The Gulf Fishery Management Council (Gulf Council) will hold a one day in-person meeting of its Ecosystem Technical Committee (ETC).

DATES: The meeting will take place Friday, May 9, 2025, from 8:30 a.m. to 4:30 p.m., EDT.

ADDRESSES: The in-person meeting will take place at the Gulf Council office. Registration information will be available on the Council's website by visiting www.gulfcouncil.org and clicking on the ETC meeting on the calendar.

Council address: Gulf Council, 4107 W Spruce Street, Suite 200, Tampa, FL 33607; telephone: (813) 348-1630.

FOR FURTHER INFORMATION CONTACT: Dr. Verena Wang, Ecosystem Analyst, Gulf Council; verena.wang@gulfcouncil.org, telephone: (813) 348-1630.

SUPPLEMENTARY INFORMATION:

Friday, May 9, 2025, 8:30 a.m.-4:30 p.m., EDT

The meeting will begin with Introductions of Members, Adoption of Agenda, and Scope of Work. The Committee will review and discuss the Gulf Fishery Ecosystem Plan (FEP) Status Review and Inflation Reduction Act project update and the Pilot Fishery Ecosystem Issue: Red Tide; including presentations and background materials.

The committee will discuss next steps to develop and operationalize the Gulf FEP and receive an update on Ecosystem Status Reports for the Gulf.

Lastly, the committee will receive Public Comment and discuss any Other Business items.

—Meeting Adjourns

The meeting will also be broadcast via webinar. You may register for the webinar by visiting www.gulfcouncil.org and clicking on the Technical Committee meeting on the calendar. The Agenda is subject to change, and the latest version along with other meeting materials will be posted on www.gulfcouncil.org as they become available.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: April 14, 2025.
Rey Israel Marquez,
Acting Deputy Director, Office of Sustainable Fisheries, National Marine Fisheries Service.

[FR Doc. 2025-06625 Filed 4-16-25; 8:45 am]

BILLING CODE 3510-22-P